DEPARTMENT OF LABOR

Employment and Training Administration

[TA-W-57,536]

California Advance Sports, La Mirada, California; Notice of Termination of Investigation

Pursuant to Section 221 of the Trade Act of 1974, as amended, an investigation was initiated on July 12, 2005 in response to a petition filed by a company official on behalf of workers of California Advance Sports, La Mirada, California.

The petition is a duplicate of an earlier petition initiated on July 11, 2005 and filed by a company official on behalf of workers of the firm in Atglen, Pennsylvania (TA-W-57,532) and other locations, including La Miranda, California. On July 26, 2005, the Department issued a negative determination regarding eligibility to apply for trade adjustment assistance applicable to workers of California Advance Sports, La Miranda, California (TA-W-57,532A).

Consequently, further investigation would serve no purpose, and the investigation has been terminated.

Signed at Washington, DC, this 25th day of August, 2005.
Linda G. Poole,
Certifying Officer, Division of Trade Adjustment Assistance.

[FR Doc. E5-5289 Filed 9-27-05; 8:45 am]

BILLING CODE 4510-30-P